DEPARTMENT OF COMMERCE

International Trade Administration

[A-583-854]

Certain Steel Nails From Taiwan: Preliminary Results of Antidumping Duty Administrative Review and Partial Rescission of Administrative Review; 2016-2017

AGENCY: Enforcement and Compliance, International Trade Administration, U.S. Department of Commerce.

SUMMARY: The Department of Commerce (Commerce) preliminarily determines that Bonuts Logistics Co., LLC made U.S. sales of subject merchandise below normal value. Commerce preliminarily determines that Unicatch Industrial Co. Ltd., PT Enterprise, Inc. and its affiliated producer Pro-Team Coil Nail Enterprise, Inc. did not make U.S. sales of subject merchandise below normal value. We are rescinding the review with respect to 92 companies for which the request for review was timely withdrawn. Interested parties are invited to comment on these preliminary results.

DATES: Applicable August 10, 2018.

FOR FURTHER INFORMATION CONTACT: Scott Hoefke or Chelsey Simonovich, AD/CVD Operations, Office VI, Enforcement and Compliance, International Trade Administration, U.S. Department of Commerce, 1401 Constitution Avenue NW, Washington DC 20230; telephone: (202) 482-4947 or (202) 482-1979, respectively.

SUPPLEMENTARY INFORMATION:

Background

Commerce is conducting an administrative review of the antidumping duty order on certain steel nails from Taiwan. The period of review (POR) is July 1, 2016, to June 30, 2017. This review covers Bonuts Logistics Co., LLC (Bonuts); PT Enterprise, Inc. (PT Enterprise) and its affiliated producer Pro-Team Coil Nail Enterprise, Inc. (Pro-Team) (collectively, PT); and Unicatch Industrial Co. Ltd. (Unicatch). Commerce published the notice of initiation of this administrative review ¹ on September 13, 2017.² The preliminary results are listed below in the section titled “Preliminary Results of Review.”

¹ PT Enterprise, Unicatch, and Mid Continent Steel & Wire, Inc. (Mid Continent), a domestic producer and interested party, requested the instant administrative review. See PT July 31, 2017 Request for Administrative Review; Unicatch July 31, 2017 Request for Administrative Review; Mid Continent July 31, 2017 Request for Administrative Reviews.

² See Initiation of Antidumping and Countervailing Duty Administrative Reviews, 82 FR 42974 (September 13, 2017) (Initiation Notice).

On January 23, 2018, Commerce exercised its discretion to toll all deadlines for the duration of the closure of the Federal Government from January 20, 2018, through January 22, 2018.³ On March 22, 2018, we extended the deadline for the preliminary results to July 16, 2018.⁴ On July 12, 2018, we extended the deadline for the preliminary results to August 3, 2018.⁵

³ See Memorandum, “Deadlines Affected by the Shutdown of the Federal Government,” dated January 23, 2018. All deadlines in this segment of the proceeding have been extended by 3 days.

⁴ See Memorandum, “Certain Steel Nails from Taiwan: Extension of Time Limit for Preliminary Results of Antidumping Duty Administrative Review,” dated March 22, 2018 (First Prelim Extension).

⁵ See Memorandum, “Certain Steel Nails from Taiwan: Extension of Time Limit for Preliminary Results of Antidumping Duty Administrative Review,” dated July 12, 2018 (Second Prelim Extension).

For a complete description of the events that followed the initiation of this administrative review, see the Preliminary Decision Memorandum.⁶

⁶ See Memorandum, “Decision Memorandum for Preliminary Results of Antidumping Duty Administrative Review: Certain Steel Nails from Taiwan; 2016-2017,” dated concurrently with, and hereby adopted by, this notice (Preliminary Decision Memorandum).

Scope of the Order ⁷

⁷ See Certain Steel Nails from the Republic of Korea, Malaysia, the Sultanate of Oman, Taiwan, and the Socialist Republic of Vietnam: Antidumping Duty Orders, 80 FR 39994 (July 13, 2015) (Order).

The merchandise covered by this order is certain steel nails. The certain steel nails subject to the order are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these orders also may be classified under HTSUS subheadings 7907.00.60.00, 8206.00.00.00 or other HTSUS subheadings.

The full description of the scope of the order is contained in the memorandum, “Decision Memorandum for Preliminary Results of Antidumping Duty Administrative Review: Certain Steel Nails from Taiwan; 2016-2017” (Preliminary Decision Memorandum), which is hereby adopted by this notice. The written description of the scope of the order is dispositive.

Methodology

For PT and Unicatch, Commerce has conducted this review in accordance with section 751(a)(1) of the Tariff Act of 1930, as amended (the Act). Normal value (NV) is calculated in accordance with section 773 of the Act. Export price or constructed export price is calculated in accordance with section 772 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, Room B-8024 of the main Department of Commerce building. In addition, a complete version of the Preliminary Decision Memorandum can be accessed directly at http://enforcement.trade.gov/frn/index.html. The signed Preliminary Decision Memorandum and the electronic version of the Preliminary Decision Memorandum are identical in content. A list of the topics discussed in the Preliminary Decision Memorandum is attached as the Appendix to this notice.

Application of Facts Available and Adverse Facts Available

Pursuant to section 776(a) and (b) of the Act, Commerce has preliminarily relied upon facts otherwise available with adverse inferences (AFA) for Bonuts because this respondent did not respond to Commerce's antidumping duty questionnaire, and thus failed to cooperate to the best of its ability in responding to Commerce's requests for information. For a complete explanation of the methodology and rationale underlying our preliminary application of AFA, see the Preliminary Decision Memorandum.

Partial Rescission of Review

Commerce received timely requests to conduct an administrative review of certain exporters covering the POR. On December 8, 2017, Mid Continent Steel & Wire, Inc. (Mid Continent), a domestic producer and interested party, timely withdrew its review requests for certain companies. Pursuant to 19 CFR 351.213(d)(1), Commerce will rescind an administrative review, in whole or in part, if the party that requested the review withdraws its request within 90 days of the date of publication of the notice of initiation of the requested review. Accordingly, we are rescinding this administrative review with respect to the companies for which all review requests have been withdrawn.⁸ For a full description of the methodology and rationale underlying our conclusions, see the Preliminary Decision Memorandum.

⁸ Those companies are: Air Sea Transport, Inc.; All Precision Co., Ltd.; Apex Maritime Co., Inc.; Aplus Pneumatic Corp.; Astrotech Steels Private Ltd.; Basso Industry Corporation; Bollore Logistics (Vietnam) Co. Ltd.; C.H. Robinson Freight Services; Challenge Industrial Co., Ltd.; Cheng Ch International Co. Ltd.; Chia Pao Metal Co. Ltd.; China International Freight Co. Ltd.; Chite Enterprises Co., Ltd.; Crown Run Industrial Corp.; Daejin Steel Company Ltd.; E&E Transport International Co., Ltd.; Easylink Industrial Co., Ltd.; ECI Taiwan Co., Ltd.; Everise Global Logistics Co., Ltd.; Faithful Engineering Products Co. Ltd.; Fastenal Asia Pacific Ltd.; Four Winds Corporation; Fuzhou Important Countries Import & Export; Fuzhou Royal Floor Co., Ltd.; Fuzhou Top Golden Import & Export Co.; General Merchandise Consolidators; Ginfa World Co. Ltd.; Gloex Company; H&W International Forwarders Co., Ltd.; Hanbit Logistics Co., Ltd.; Hecny Shipping Limited; Hi-Sharp Industrial Corp. Ltd.; Home Value Co., Ltd.; Honour Lane Logistics Co., Ltd.; Hor Liang Industrial Corp.; Hyup Sung Indonesia; Inmax Industries Sdn. Bhd.; Jade Shuttle Enterprise Co., Ltd.; Jia Jue Industry Co. Ltd.; Jinhai Hardware Co., Ltd.; Jinsco International Corp.; Joo Sung Sea & Air Co., Ltd.; K Win Fasteners Inc.; King Freight International Corporation; Korea Wire Co., Ltd.; Liang Chyuan Industrial Co., Ltd.; Locksure Inc.; Lu Kang Hand Tools Industrial Co., Ltd.; ML Global Ltd.; Master United Corp.; Nailermate Enterprise Corporation; Newrex Screw Corporation; NMC Logistics International Company; Noble Shipping Pvt. Ltd.; NS International Ltd.; OOCL Logistics Ltd.; Orient Express Container Co., Ltd.; Oriental Power Logistics Co., Ltd.; Oriental Vanguard Logistics Co. Ltd.; Pacific Concord International Ltd.; Pacific Star Express Corp.; Panda Logistics Co., Ltd.; Panther T&H Industry Co.; Patek Tool Co., Ltd.; Point Edge Corp.; President Industrial Inc.; Romp Coil Nail Industries Inc.; Scanwell, Schenker, Seamaster Logistics Sdn Bhd; Star World Product and Trading Co., Ltd.; Sun VN Transport Co.; T.H.I. Logistics Co. Ltd.; Taiwan Wakisangyo Co. Ltd.; The Ultimate Freight Management; Topps Wang International Ltd.; Trans Wagon International Co. Ltd.; Trans-Top Enterprise Co., Ltd.; Transwell Logistics Co., Ltd.; Transworld Transportation Co., Ltd.; Trim International Inc.; Tsi-Translink (Taiwan) Co. Ltd.; UC Freight Forwarding Co. Ltd.; U-Can-Do Hardware Corp.; Universal Power Shipping Ltd.; UPS Supply Chain Solutions; VIM International Enterprise Co., Ltd.; Wictory Co. Ltd.; Yeh Fong Hsin; Yehdyi Enterprise Co., Ltd.; Yu Tai World Co., Ltd.; and Yusen Logistics (Taiwan) Ltd.

Preliminary Results of the Review

As a result of this review, we preliminarily determine that the following weighted-average dumping margins exist:

Producer/exporter | Dumping margin (percent)
Bonuts Logistics Co., LLC | 78.13
PT Enterprise, Inc./Pro-Team Coil Nail Enterprise, Inc | 0.00
Unicatch Industrial Co. Ltd | 0.00

Disclosure and Public Comment

Commerce intends to disclose to interested parties the calculations performed in connection with these preliminary results within five days of the date of publication of this notice.⁹ Interested parties may submit cases briefs no later than 30 days after the date of publication of this notice.¹⁰ Rebuttal briefs, limited to issues raised in the case briefs, may be filed not later than five days after the due date for filing case briefs.¹¹ Parties who submit case briefs or rebuttal briefs in this proceeding are encouraged to submit with each argument: (1) A statement of the issue; (2) a brief summary of the argument; and (3) a table of authorities.¹² Case and rebuttal briefs should be filed using ACCESS.¹³ In order to be properly filed, ACCESS must successfully receive an electronically filed document in its entirety by 5 p.m. Eastern Time.

⁹ See 19 CFR 351.224(b).

¹⁰ See 19 CFR 351.309(c)(1)(ii).

¹¹ See 19 CFR 351.309(d).

¹² See 19 CFR 351.309(c)(2) and (d)(2).

¹³ See 19 CFR 351.303.

Pursuant to 19 CFR 351.310(c), interested parties who wish to request a hearing must submit a written request to the Assistant Secretary for Enforcement and Compliance, filed electronically via ACCESS, within 30 days after the date of publication of this notice.¹⁴ Requests should contain: (1) The party's name, address, and telephone number; (2) the number of participants; and (3) a list of issues to be discussed. Issues raised in the hearing will be limited to those raised in the respective case and rebuttal briefs.

¹⁴ See 19 CFR 351.310(c).

Unless otherwise extended, Commerce intends to issue the final results of this administrative review, including the results of its analysis of the issues raised in any written briefs, not later than 120 days after the date of publication of this notice, pursuant to section 751(a)(3)(A) of the Act.

Assessment Rates

Upon completion of the administrative review, Commerce shall determine, and CBP shall assess, antidumping duties on all appropriate entries in accordance with 19 CFR 351.212(b)(1). We intend to issue instructions to CBP 15 days after the date of publication of the final results of this review.

Where the respondent reported reliable entered values, we calculated importer- (or customer-) specific ad valorem rates by aggregating the dumping margins calculated for all U.S. sales to each importer (or customer) and dividing this amount by the total entered value of the sales to each importer (or customer).¹⁵ Where Commerce calculated a weighted-average dumping margin by dividing the total amount of dumping for reviewed sales to that party by the total sales quantity associated with those transactions, Commerce will direct CBP to assess importer- (or customer-) specific assessment rates based on the resulting per-unit rates.¹⁶ Where an importer- (or customer-) specific ad valorem or per-unit rate is greater than de minimis (i.e., 0.50 percent), Commerce will instruct CBP to collect the appropriate duties at the time of liquidation.¹⁷ Where an importer- (or customer-) specific ad valorem or per-unit rate is zero or de minimis, Commerce will instruct CBP to liquidate appropriate entries without regard to antidumping duties.¹⁸

¹⁵ See 19 CFR 351.212(b)(1).

¹⁶ Id.

¹⁷ Id.

¹⁸ See 19 CFR 351.106(c)(2).

Consistent with Commerce's assessment practice, for entries of subject merchandise during the POR produced by Bonuts, PT, or Unicatch, for which the producer did not know that its merchandise was destined for the United States, we will instruct CBP to liquidate unreviewed entries at the all-others rate if there is no rate for the intermediate company(ies) involved in the transaction.¹⁹

¹⁹ For a full discussion of this practice, see Antidumping and Countervailing Duty Proceedings: Assessment of Antidumping Duties, 68 FR 23954 (May 6, 2003).

For the firms covered by this review, we intend to issue liquidation instructions to CBP 15 days after publication of the final results of this review. For the non-reviewed firms for which we are rescinding this administrative review, Commerce intends to instruct CBP 15 days after publication of these preliminary results of review to assess antidumping duties at rates equal to the rates of cash deposits for estimated antidumping duties required at the time of entry, or withdrawn from warehouse, for consumption, during the period May 20, 2016, through June 30, 2017, in accordance with 19 CFR 351.212(c)(2).

Cash Deposit Requirements

The following cash deposit requirements will be effective for all shipments of the subject merchandise entered, or withdrawn from warehouse, for consumption on or after the publication date of the final results of this administrative review, as provided by section 751(a)(2)(C) of the Act: (1) The cash deposit rate for Bonuts, PT, and Unicatch will be equal to the weighted-average dumping margin established in the final results of this review, except if the rate is zero or de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, then the cash deposit rate will be the rate established for the most recently completed segment of this proceeding for the manufacturer of subject merchandise; and (4) the cash deposit rate for all other manufacturers or exporters will continue to be 2.24 percent, the all-others rate in the LTFV investigation.²⁰ These cash deposit requirements, when imposed, shall remain in effect until further notice.

²⁰ See Certain Steel Nails from Taiwan: Final Determination of Sales at Less Than Fair Value, 80 FR 28959 (May 20, 2015).

Notifications

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: August 3, 2018.
Christian Marsh,
Deputy Assistant Secretary for Enforcement and Compliance.

Appendix

List of Topics Discussed in the Preliminary Decision Memorandum

1. Summary

2. Background

3. Scope of the Order

4. Partial Rescission of Administrative Review

5. Duty Absorption

6. Use of Facts Available With an Adverse Inference

7. Comparisons to Normal Value

8. Date of Sale

9. Export Price and Constructed Export Price

10. Normal Value

11. Currency Conversion

12. Verification

13. Recommendation

[FR Doc. 2018-17163 Filed 8-9-18; 8:45 am]

BILLING CODE 3510-DS-P